ENVIRONMENTAL PROTECTION AGENCY

[FRL-8454-8]

Proposed CERCLA Administrative Agreement for the Recovery of Past Response Costs Incurred at the Weld County Waste Disposal Site Near Ft. Lupton, in Weld County, CO

AGENCY: Environmental Protection Agency (EPA).

ACTION: Notice and request for public comment.

SUMMARY: In accordance with the requirements of section 122(i) of the Comprehensive Environmental Response, Compensation, and Liability Act, as amended (“CERCLA”), 42 U.S.C. 9622(i), notice is hereby given of a proposed administrative settlement under section 122(h)(1) of CERCLA, 42 U.S.C. 9622(h)(1), concerning the Weld County Waste Disposal Site located at 4982 Weld County Road 35, approximately 4½ miles east of Ft. Lupton, in Weld County, Colorado. This settlement, embodied in a CERCLA section 122(h) Agreement for Recovery of Past Response Costs (“Agreement”), is designed to resolve CBS Corporation's liability at the Site for past work and past response costs through covenants under sections 106 and 107 of CERCLA, 42 U.S.C. 9606 and 9607. The proposed Agreement requires CBS Corporation to pay a total of $178,118.15.

Opportunity for Comment: For thirty (30) days following the date of publication of this notice, the Agency will consider all comments received, and may modify or withdraw its consent to the Agreement if comments received disclose facts or considerations which indicate that the Agreement is inappropriate, improper, or inadequate. The Agency's response to any comments received will be available for public inspection at EPA Region 8's Central Records Center, 1595 Wynkoop Street, 3rd Floor, in Denver, Colorado.

DATES: Comments must be submitted on or before September 14, 2007.

ADDRESSES: The proposed Agreement and additional background information relating to the settlement are available for public inspection at EPA Region 8's Central Records Center, 1595 Wynkoop Street, 3rd Floor, in Denver, Colorado. Comments and requests for a copy of the proposed Agreement should be addressed to Carol Pokorny (8ENF-RC), Technical Enforcement Program, U.S. Environmental Protection Agency, 1595 Wynkoop Street, Denver, Colorado 80202-1129, and should reference the CBS Settlement for the Weld County Waste Disposal Site, in Weld County, Colorado and the EPA docket number, CERCLA-08-2007-0011.

FOR FURTHER INFORMATION CONTACT: Carol Pokorny, Enforcement Specialist (8ENF-RC), Technical Enforcement Program, U.S. Environmental Protection Agency, 1595 Wynkoop Street, Denver, Colorado 80202-1129, (303) 312-6970.

SUPPLEMENTARY INFORMATION: Regarding the proposed administrative settlement under section 122(h)(1) of CERCLA, 42 U.S.C. 9622(h)(1): In accordance with section 122(i) of CERCLA, 42 U.S.C. 9622(i), notice is hereby given that the terms of the Agreement have been agreed to by CBS Corporation and EPA. By the terms of the proposed Agreement, CBS Corporation will pay a total of $178,118.15 to the Hazardous Substance Superfund. This payment represents approximately 3.292% of the $5,410,636.40 in past response costs incurred by EPA for response actions conducted at the Site through September 30, 2006. CBS Corporation's predecessor (Wyoming Mineral Corporation) manifested 51,122.50 gallons of hazardous substances to the Site. This amount represents approximately 3.292% of the 1,552,849.32 gallons of hazardous substances manifested to the Site by all generators. The amount that CBS Corporation will pay, as shown above, was based upon the number of gallons of hazardous substances manifested to the Site. To be eligible for the settlement, CBS Corporation must have submitted a response to EPA's Request for Information.

It is so agreed:

Dated: July 31, 2007.
Michael T. Risner,
Acting Assistant Regional Administrator, Office of Enforcement, Compliance, and Environmental Justice, Region 8.

[FR Doc. E7-16047 Filed 8-14-07; 8:45 am]

BILLING CODE 6560-50-P